DEPARTMENT OF ENERGY

Federal Energy Regulatory Commission

Combined Notice of Filings #1

Take notice that the Commission received the following electric corporate filings:

Docket Numbers: EC06-48-005.

Applicants: Westar Energy, Inc.

Description: Response to May 16, 2018, et al. Data Request(s) of Westar Energy, Inc.

Filed Date: 6/14/18.

Accession Number: 20180614-5178.

Comments Due: 5 p.m. ET 7/5/18.

Docket Numbers: EC18-103-000.

Applicants: WEC Infrastructure LLC, Upstream Wind Energy LLC.

Description: Joint Application for Authorization Under Section 203 of the Federal Power Act of Upstream Wind Energy LLC, et. al.

Filed Date: 6/15/18.

Accession Number: 20180615-5099.

Comments Due: 5 p.m. ET 7/6/18.

Take notice that the Commission received the following electric rate filings:

Docket Numbers: ER10-2130-019.

Applicants: Forward Energy LLC.

Description: Triennial Report and Change in Fact Notice of Forward Energy LLC.

Filed Date: 6/15/18.

Accession Number: 20180615-5110.

Comments Due: 5 p.m. ET 8/14/18.

Docket Numbers: ER10-2136-014.

Applicants: Invenergy Cannon Falls LLC.

Description: Triennial Report and Change in Fact Notice of Invenergy Cannon Falls LLC.

Filed Date: 6/15/18.

Accession Number: 20180615-5109.

Comments Due: 5 p.m. ET 8/14/18.

Docket Numbers: ER11-4044-020.

Applicants: Gratiot County Wind LLC.

Description: Triennial Report and Change in Fact Notice of Gratiot County Wind LLC.

Filed Date: 6/15/18.

Accession Number: 20180615-5111.

Comments Due: 5 p.m. ET 8/14/18.

Docket Numbers: ER11-4046-019.

Applicants: Gratiot County Wind II LLC.

Description: Triennial Report and Change in Fact Notice of Gratiot County Wind II LLC.

Filed Date: 6/15/18.

Accession Number: 20180615-5112.

Comments Due: 5 p.m. ET 8/14/18.

Docket Numbers: ER12-164-018.

Applicants: Bishop Hill Energy III LLC.

Description: Triennial Report and Change in Fact Notice of Bishop Hill Energy III LLC.

Filed Date: 6/15/18.

Accession Number: 20180615-5108.

Comments Due: 5 p.m. ET 8/14/18.

Docket Numbers: ER15-1429-009.

Applicants: Emera Maine.

Description: Request for Waiver of Emera Maine.

Filed Date: 6/14/18.

Accession Number: 20180614-5193.

Comments Due: 5 p.m. ET 6/21/18.

Docket Numbers: ER16-1720-007.

Applicants: Invenergy Energy Management LLC.

Description: Triennial Report and Change in Fact Notice of Invenergy Energy Management LLC.

Filed Date: 6/15/18.

Accession Number: 20180615-5114.

Comments Due: 5 p.m. ET 8/14/18.

Docket Numbers: ER18-1310-000.

Applicants: Wheelabrator Millbury Inc.

Description: Report Filing: Report filing to be effective N/A.

Filed Date: 6/15/18.

Accession Number: 20180615-5042.

Comments Due: 5 p.m. ET 7/6/18.

Docket Numbers: ER18-1787-000.

Applicants: California Independent System Operator Corporation.

Description: § 205(d) Rate Filing: 2018-06-14 Settlements Bucket Tariff Clarifications Amendment to be effective 11/1/2018.

Filed Date: 6/14/18.

Accession Number: 20180614-5150.

Comments Due: 5 p.m. ET 7/5/18.

Docket Numbers: ER18-1788-000.

Applicants: MATL LLP.

Description: Expedited Request of MATL LLP for Waiver with Respect to a Pending Interconnection Request.

Filed Date: 5/23/18.

Accession Number: 20180523-5208.

Comments Due: 5 p.m. ET 6/29/18.

Docket Numbers: ER18-1789-000.

Applicants: Southwest Power Pool, Inc.

Description: § 205(d) Rate Filing: 1276R16 KCPL NITSA NOA to be effective 6/1/2018.

Filed Date: 6/15/18.

Accession Number: 20180615-5071.

Comments Due: 5 p.m. ET 7/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2018.
Kimberly D. Bose,
Secretary.

[FR Doc. 2018-13367 Filed 6-21-18; 8:45 am]

BILLING CODE 6717-01-P